DEPARTMENT OF STATE

[Public Notice 11890]

Notice of Department of State Sanctions Actions

SUMMARY: The Secretary of State has imposed sanctions on 23 individuals.

DATES: The Secretary of State's determination regarding the 23 individuals and imposition of sanctions on the individuals identified in the SUPPLEMENTARY INFORMATION section were effective on September 15, 2022.

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (ii) to be responsible for or complicit in, or to have directly or indirectly engaged or attempted to engage in, any of the following for or on behalf of, or for the benefit of, directly or indirectly, the Government of the Russian Federation: (F) activities that undermine the peace, security, political stability, or territorial integrity of the United States, its allies, or its partners.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) to be or have been a leader, official, senior executive officer, or member of the board of directors of: (A) the Government of the Russian Federation.

The Secretary of State has determined, pursuant to Section 1(a)(ii)(F) of E.O. 14024, Volodymyr Valeriyovych Rogov, Oleksandr Fedorovych Saulenko, Volodymyr Volodymyrovich Bandura, Valery Mykhailovych Pakhnyts, Mikhail Leonidovich Rodikov, Vladimir Aleksandrovich Bespalov, Pavlo Ihorovych Filipchuk, Tetyana Yuriivna Tumilina, Hennadiy Oleksandrovych Shelestenko, Oleksandr Yuriyovych Kobets, Ihor Ihorovych Semenchev, Tetyana Oleksandrivna Kuz'mych, Serhiy Mykolayovych Cherevko, Yevhen Vitaliiovych Balytskyi, Andrey Dmitrievich Kozenko, Oleksiy Sergeevich Selivanov, Andriy Leonidovich Siguta, Anton Robertovich Titskiy, Andriy Yuriovych Trofimov, Anton Viktorovich Koltsov, Mykyta Ivanovich Samoilenko, and Viktor Andriyovych Emelianenko are responsible for or complicit in, or have directly or indirectly engaged or attempted to engage in, activities that undermine the peace, security, political stability, or territorial integrity of the United States, its allies, or its partners for or on behalf of, or for the benefit of, directly or indirectly, the Government of the Russian Federation.

The Secretary of State has determined, pursuant to Section 1(a)(iii)(A) of E.O. 14024, that Maxim Stanislavovich Oreshkin is or has been a leader, official, senior executive officer, or member of the board of directors of the Government of the Russian Federation.

Whitney Baird,
Principal Deputy Assistant Secretary, Bureau of Economic and Business Affairs, Department of State.

[FR Doc. 2022-26320 Filed 12-2-22; 8:45 am]

BILLING CODE 4710-AE-P